DEPARTMENT OF AGRICULTURE

Deschutes Provincial Advisory Committee (DPAC)

AGENCY: Forest Service.

ACTION: Notice of meeting.

SUMMARY: The Deschutes Provincial Advisory Committee will meet for a field trip on June 7, 2006 starting at 9 a.m. at the Sisters Ranger District, Pine Street and Hwy 20, Sisters, Oregon. Topics for discussion include Glaze Meadow Old Growth Restoration Project, the Sisters Area Fuels Reduction Project, Invasive Plants, B&B Fire Restoration Project, and Metolius Basin Vegetation Management Stewardship. A Public Forum will be available from 12:30 p.m. till 13 p.m. All Deschutes Province Advisory Committee Meetings are open to the public.

FOR FURTHER INFORMATION CONTACT: Chris Mickle, Province Liaison, Deschutes NF, Crescent RD, P.O. Box 208, Crescent, OR 97754, Phone (541) 433-3216.

Cecilia R. Seesholtz,
Deputy Forest Supervisor.

[FR Doc. 06-4806 Filed 5-23-06; 8:45 am]

BILLING CODE 3410-11-M